DEPARTMENT OF TRANSPORTATION

Federal Aviation Administration

Aging Transport Systems Rulemaking Advisory Committee

AGENCY: Federal Aviation Administration, DOT.

ACTION: Notice of a new working group for the aging Transport Systems Rulemaking Advisory Committee.

SUMMARY: This action gives notice of the formation of a new harmonization working group to assist the Aging Transport Systems Rulemaking Advisory Committee with investigating and developing recommendations to enhance the safety of electrical wiring systems in small transport airplanes.

FOR FURTHER INFORMATION CONTACT: Charles Huber, Manager, Airplane and Flight Crew Interface Branch, ANM-111, Executive Director of ATSRAC, Federal Aviation Administration, 1601 Lind Avenue, SW., Renton, WA 98055; telephone (425) 227-2589 or fax (425) 227-1320.

SUPPLEMENTARY INFORMATION:

Background

In response to the White House Commission on Aviation Safety and Security, the Federal Aviation Administration (FAA) formed the Aging Non-Structural Systems Study Team, which developed the FAA's approach to improving the management of aging wire systems. To assist in fulfilling the actions specified in the Aging Non-Structural Systems Plan, the FAA established an Aging Transport Systems Rulemaking Advisory Committee (ATSRAC) to provide advice and recommendations to the FAA Administrator, through the Associate Administrator for Regulation and Certification, on airplane system safety issues like aging wire systems. The FAA initially tasked ATSRAC in 1998 with the following five tasks, with the goal of developing recommendations to enhance airplane electrical wiring systems:

1. Collect data on aging wiring systems through airplane inspections.

2. Review airplane manufacturer's service information.

3. Review operators' maintenance programs.

4. Review manufacturers' Standard Practices for Wiring.

5. Review air carrier and repair station training programs.

It is important to note that the results from the initial taskings indicate that problems associated with systems on aging airplanes are not completely related to the degradation over time of wire systems. Inadequate installation and maintenance practices can lead to what is commonly referred to as an “aging system” problem. As such, the scope of the ATSRAC is not limited solely to age-related issues but includes improving the continued airworthiness of airplane systems, and, in particular, electrical wire systems.

In 2001, the FAA tasked the ATSRAC with four new tasks to facilitate the implementation of the recommendations, which were primarily based on the review of data related to large transport airplanes, from the initial five tasks. To help develop its reports in response to the new tasks, the ATSRAC established four harmonization working groups.

This notice informs the public of the formation of one additional ATSRAC harmonization working group, the Small Transport Airplane Harmonization Working Group. The ATSRAC has chosen to establish a new harmonization working group to provide technical support in developing its recommendations to the FAA. This group will establish working methods to ensure coordination among the four existing groups and coordination with working groups established by the Aviation Rulemkaing Advisory Committee. This coordination is required to ensure efficient use of resources, continuity in related decisions, and the reduction of duplication of effort.

New Harmonization Working Group and Assigned Tasks

The Small Transport Airplane Harmonization Working Group should be comprised of persons who have expertise in small aircraft (i.e., aircraft with 6-30 passenger seats and a maximum payload capacity of 7,500 pounds or less) design, maintenance, or operations. The group will—

1. Investigate the applicability of previous ATSRAC recommendations to small transport airplane electrical wire systems; and

2. Identify issues unique to these systems and recommend appropriate actions based on results from—

• Performing a sample inspection of in-service and retired small transport airplanes that correlate to the inspection previously performed under the original task 1 and task 2 of the ATSRAC;

• Reviewing fleet-service history to identify trends or areas for actions; and

• Coordinating with other ATSRAC Harmonization Working Groups to ensure that the ATSRAC reports to the FAA consider the needs of small transport airplanes.

The working group will serve as staff to the ATSRAC to assist the Committee in writing technical reports that will allow the FAA to complete its development of associated rulemaking language and advisory material. Working group documents will be reviewed, deliberated, and approved by the ATSRAC. If the ATSRAC accepts the working group's documents, the Committee will forward them to the FAA as ATSRAC recommendations.

In addition to coordinating with other working groups, the Small Transport Airplane Harmonization Working Group should coordinate with various organizations and specialists, as appropriate. And, if the group identifies a need for new working groups, when existing groups do not have the appropriate expertise to address certain tasks, it should inform the Committee.

Working Group Activity

The working group is expected to comply with the procedures adopted by ATSRAC. As part of the procedures, the working group is expected to:

1. Recommend a work plan for completion of the task, including the rationale supporting such a plan, for consideration by the ATSRAC, following the establishment and selection of the working group.

2. Give a detailed conceptual presentation of proposed recommendations prior to proceeding with the work stated in item 3 below.

3. Draft a report and/or any other collateral documents the working group determines to be appropriate and submit them to the ATSRAC for review and approval by January 2003.

4. Provide a status report at each meeting of the ATSRAC.

Participation in the Working Group

The working group will be composed of experts having an interest in the assigned tasks. Participants in the working group should be prepared to devote a significant portion of their time to the ATSRAC task through January 2003. A working group member need not be a representative or a member of the ATSRAC.

An individual who has expertise in the subject matter and who wishes to become a member of the Small Transport Airplane Harmonization Working Group should contact: Charles Huber (see For Further Information Contact section of this notice), expressing that desire, describing his or her interest in the tasks, and stating the expertise he or she would bring to the working group. All requests to participate must be received no later than (30 days following publication of this notice). The ATSRAC Chair, the Executive Director, and the working group Co-Chairs will review the requests, and the individuals will be advised whether or not their requests can be accommodated.

The Secretary of Transportation has determined that the formation and use of ATSRAC are necessary and in the public interest in connection with the performance of duties imposed on the FAA by law.

Meetings of the ATSRAC will be open to the public. Meetings of the individual working groups will not be open to the public, except to the extent those individuals with an interest and expertise are selected to participate. No public announcement of working group meetings will be made.

Issued in Washington, DC, on February 25, 2002.
Anthony F. Fazio,
Director, Office of Rulemaking.

[FR Doc. 02-5115 Filed 3-1-02; 8:45 am]

BILLING CODE 4910-13-M